DEPARTMENT OF TRANSPORTATION

Federal Aviation Administration

[Advisory Circular 20-143]

Installation, Inspection, and Maintenance of Controls for General Aviation Reciprocating Aircraft Engines

AGENCY: Federal Aviation Administration, DOT.

ACTION: Notice of issuance of Advisory Circular (AC) 20-143.

SUMMARY: This notice announces the issuance of AC 20-143, Installation, Inspection, and Maintenance of Controls for General Aviation Reciprocating Aircraft Engines. This AC presents information regarding the inspection, maintenance, and installation of engine controls with emphasis on the airframe portion of these systems. It provides guidance to design and maintenance personnel to reduce the number of airplane accidents and incidents related to the loss of engine power control. This AC provides a supplement, but does not replace the procedures in the manufacturers' maintenance manuals. This material is neither mandatory nor regulatory in nature and does not constitute a regulation.

DATES: On June 6, 2000, the Small Airplane Directorate issued Advisory Circular No. 20-143.

How to Request Copies: Copies of the AC are available from the U.S. Department of Transportation, Subsequent Distribution Office, Ardmore East Business Center, 3341 Q 75th Avenue, Landover, MD 20785. The advisory circular is also available on the internet at http://www.faa.gov/avr/air/airhome.htm.

Issued in Kansas City, Missouri, on June 23, 2000.
Larry E. Werth,
Acting Manager, Small Airplane Directorate, Aircraft Certification Service.

[FR Doc. 00-16917 Filed 7-3-00; 8:45 am]

BILLING CODE 4910-13-U